CORPORATION FOR NATIONAL AND COMMUNITY SERVICE

Sunshine Act Meeting

The Board of Directors of the Corporation for National and Community Service gives notice of the following meeting:

DATE AND TIME: September 24, 2001, 9:30 a.m.-12 noon.

PLACE: Corporation for National and Community Service, 1201 New York Avenue NW., 8th Floor, Washington, DC.

STATUS: Open.

MATTERS TO BE CONSIDERED: The Committees of the Board of Directors will report on their activities. In addition, the Board will engage in the following reports and discussions: Learning in Deed; State Education Agency Network; Universities and Serve Study.

ACCOMMODATIONS: Anyone who needs an interpreter or other accommodation should notify the Corporation's contact person.

CONTACT PERSON FOR FURTHER INFORMATION: Rhonda Taylor, Deputy Director of Public Liaison, Corporation for National Service, 8th Floor, Room 8619, 1201 New York Avenue NW., Washington, DC 20525. Phone (202) 606-5000 ext. 282. Fax (202) 565-2794. TDD: (202) 565-2799. E-mail: Rtaylor@cns.gov.

Dated: September 14, 2001.
Frank R. Trinity,
Acting General Counsel, Corporation for National and Community Service.

[FR Doc. 01-23339 Filed 9-14-01; 2:03 pm]

BILLING CODE 6050-$$-M